ENVIRONMENTAL PROTECTION AGENCY

[EPA-R03-CPB-2009-0500; FRL-9106-9]

Agency Information Collection Activities; Submission to OMB for Review and Approval; Comment Request; Chesapeake Registry; EPA ICR No. 2365.02, OMB Control No. 2003-0001

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 25, 2010.

ADDRESSES: Submit your comments, referencing Docket ID Number EPA-R03-CBP-2009-0500, to both EPA and OMB. For EPA use one of the following three methods:

• http://www.regulations.gov (our preferred method). Follow the on-line instructions for submitting.

• Mail: EPA Docket Center (EPA/DC), Environmental Protection Agency, Enforcement and Compliance Docket and Information Center, mail code 28221T, 1200 Pennsylvania Avenue, NW., Washington, DC 20460.

• E-mail: docket.oeca@epa.gov.

For OMB mail to: Office of Information and Regulatory Affairs, Office of Management and Budget (OMB), Attention: Desk Officer for EPA, 725 17th Street, NW., Washington, DC 20503.

FOR FURTHER INFORMATION CONTACT: Marguerite Duffy, USEPA Region III—Chesapeake Bay Program, Annapolis City Marina, 410 Severn Avenue Suite 109 (3CB10), Annapolis, MD 21403; telephone number: (410) 267-5764; fax number: (410) 267-5777; e-mail address: duffy.marguerite@epa.gov; or Doreen Vetter, telephone number (410) 267-5780; e-mail address: vetter.doreen@epa.gov.

SUPPLEMENTARY INFORMATION: EPA has submitted the following ICR to OMB for review and approval according to the procedures prescribed in 5 CFR 1320.12. On October 23, 2009 (74 FR 54801), EPA sought comments on this ICR pursuant to 5 CFR 1320.8(d) and received no comments. Any additional comments on this ICR should be submitted to EPA and OMB within 30 days of this notice.

EPA has established a public docket for this ICR under Docket ID No. EPA-R03-CBP-2009-0500, which is available for online viewing at http://www.regulations.gov, or in person viewing at EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” key in the docket ID number identified above, and hit the “Submit” icon. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Chesapeake Registry.

ICR numbers: EPA ICR No. 2365.02, OMB Control No. 2003-0001.

ICR Status: This ICR is scheduled to expire on February 28, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In 2008, EPA's Region III Chesapeake Bay Program Office (CBPO) and its partners developed the Chesapeake Action Plan (CAP) to strengthen and expand partnerships in the watershed, enhance coordination of restoration activities, and increase the collective accountability for protecting the Chesapeake Bay. One component described in the CAP is a Web-enabled reporting system known as the Activity Integration Plan now titled Chesapeake Registry. Through this reporting system, participating organizations provide data about the activities in which they are currently engaged, or plan to be engaged in, to protect and restore the Chesapeake Bay and its watershed. The ability to capture and account for Bay-wide implementation activities was developed in response to recommendations by the Government Accountability Office and directives of the Explanatory Statement of the Fiscal Year (FY) 2008 Consolidated Appropriations Act (Pub. L. 110-161). CBPO conducted its first activity data call in 2008 that included 10 Federal agencies, 7 States, and 2 local organizations.

The EPA, on behalf of the partnership, intends to expand the data call to more than 10 non-federal agencies and organizations to strengthen the information base on which to support implementation decisions and more recently, to support Executive Order (EO) 13508, signed by President Barack Obama on May 12, 2009. Section 203(d) of the EO directs EPA to identify the “mechanisms that will assure that governmental and other activities, including data collection and distribution, are coordinated and effective, relying on existing mechanisms where appropriate.”

Section 204 further directs that “Federal actions to protect and restore the Chesapeake Bay are closely coordinated with actions by State and local agencies in the watershed and that the resources, authorities, and expertise of Federal, State, and local agencies are used as efficiently as possible.” The Chesapeake Registry and associated data calls provide a mechanism for coordinated data collections among federal and nonfederal entities protecting and restoring the Bay and its watershed, and the information necessary to adaptively manage the program in support of these mandates.

The Chesapeake Registry includes detailed information about the activities and funding conducted and planned by partner and stakeholder organizations. The organizations provide project information on the nature of the activity, responsible organization, organizational point of contact, resource levels, geographic location, and major milestones on progress towards Chesapeake Bay protection and restoration efforts. Funds reported in the Chesapeake Registry are linked to an organization's own resource base so that data associated with a set of funds is entered only by the originator of the funding. The information is organized by programmatic goal and desired result, which aligns activities to the goals of the program and helps to provide an accurate depiction of restoration activities, progress, and results. The information collection, as envisioned, will be conducted annually. Summary level information from the Chesapeake Registry is available at http://cap.chesapeakebay.net.

Each reporting organization is assigned a user ID and password. Security measures have been established to protect data that have been entered, including maintaining the data on a secure server on a secure network, and confirming the data with each reporting organization. Participants in the information collection are able to search the reporting system database application and view standard reports. Partners will use the enhanced and expanded data to update performance management dashboards that summarize and synthesize information so the program partners and stakeholders can understand, at a glance, the progress being made in key program areas. The dashboards include measures of progress, information about resources and strategic analyses of what needs to be done to improve implementation. In addition, EPA anticipates that some of the partners and stakeholders will use the reporting system as a tool for their own management and planning efforts.

Burden Statement: The annual public reporting and recordkeeping burden for this collection of information is estimated to average 64.8 hours per response for state and local government agencies and 11.5 hours per response for non-government organizations. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and local governments and non-government organizations within the Chesapeake Bay watershed.

Estimated Number of Respondents: 50 (30 State and local governments, 20 non-government organizations) initially but will likely increase over time.

Frequency of Response: Annual.

Estimated Total Annual Hour Burden: 1,001.

Estimated Total Annual Cost: $56,738.

Changes in the Estimates: EPA anticipates an annual, gradual change in the total estimated respondent burden compared with that identified in the ICR currently approved by OMB.

Dated: January 20, 2010.
John Moses,
Director, Collection Strategies Division.

[FR Doc. 2010-1467 Filed 1-25-10; 8:45 am]

BILLING CODE 6560-50-P